DEPARTMENT OF AGRICULTURE

Submission for OMB Review; Comment Request

May 6, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agriculture Statistics Service

Title: Childhood Injury and Adult Occupational Injury Survey of Minority Farm Population.

OMB Control Number: 0535-0235.

Summary of Collection: Primary function of the National Agricultural Statistics Services (NASS) is to prepare and issue state and national estimates of crop and livestock production under the authority of 7 U.S.C. 2204. NASS will conduct a national childhood agricultural injury survey and an adult occupational farm injury survey focusing on the minority farm population. The study will provide estimates of annual childhood and adult nonfatal injury incidence rates, annual injury frequencies, and descriptive injury information for children under the age of 20 and farm operators and employees 20 years of age or older.

Need and Use of the Information: Data from this survey will provide a source of consistent information that the National Institute for Occupational Safety and Health (NIOSH) can use to target funds appropriated by Congress for the prevention of childhood agricultural injuries and adult occupational injuries. No source of data on childhood injuries or adult occupational farm injuries exists that covers all aspects of the agricultural production sector. If this information is not collected, NIOSH's ability to track and evaluate the impact of its injury prevention efforts will decrease.

Description of Respondents: Farms.

Number of Respondents: 50,500.

Frequency of Responses: Reporting: Other (One-Time).

Total Burden Hours: 12,404.

National Agricultural Statistics Service

Title: Generic Clearance to Conduct Survey Research Studies.

OMB Control Number: 0535-NEW.

Summary of Collection: The primary objectives of the National Agricultural Statistics Service (NASS) are to prepare and issue State and national estimates of crop and livestock production, economic statistics, and environmental statistics related to agriculture and to conduct the Census of Agriculture. The purpose of this generic clearance is to allow NASS to continue to develop, test, evaluate, adopt, and use state-of-the-art techniques to cover a broad range of topics designed to improve NASS' data collection on agriculture.

Need and Use of the Information: NASS will use a number of survey improvement techniques, as appropriate to the individual project under investigation. These include focus groups, cognitive and usability laboratory and field techniques, exploratory interviews, behavior coding, respondent debriefing, pilot surveys and split-panel tests. The information gathered will be used mainly for questionnaire development and other research and evaluation. Additionally, NASS anticipates the benefit of increased response rates through improved survey design; a goal tied directly to addressing OMB requirements for higher response rates and measurement of non-response bias.

Description of Respondents: Farms.

Number of Respondents: 1,100.

Frequency of Responses: Reporting: On occasion.

Total Burden Hours: 1,650.

Charlene Parker,
Departmental Information Collection Clearance Officer.

[FR Doc. E8-10392 Filed 5-8-08; 8:45 am]

BILLING CODE 3410-20-P